DEPARTMENT OF THE INTERIOR

Bureau of Land Management

[A2407-014-004-065516; #O2412-014-004-047181.1]

Draft Environmental Assessment, Public Hearing, and Request for Comment on Maximum Economic Recovery and Fair Market Value for the Navajo Transitional Energy Company Proposed Federal Coal Lease Modification for MTM 110693 and Lease-By-Application and Mining Plan for MTM 105485-01, Big Horn County, MT

AGENCY: Bureau of Land Management, Interior.

ACTION: Notice of availability and public hearing.

SUMMARY: The Bureau of Land Management (BLM) and the Office of Surface Mining Reclamation and Enforcement (OSMRE) announce that a draft environmental assessment (EA) is available. The draft EA analyzes the Navajo Transitional Energy Company's Federal coal lease modification application (LMA), serial number MTM 110693, and lease-by-application (LBA) and mining plan, MTM 105485-01, for Spring Creek Mine. The BLM also announces that a public hearing will be held to receive comments on the Fair Market Value (FMV), Maximum Economic Recovery (MER), and on factors that may affect the FMV and MER determinations of the coal resources contained in the proposed LBA lease tracts. The BLM and OSMRE take these actions in compliance with the National Environmental Policy Act of 1969, as amended; the Mineral Leasing Act, as amended; and the Federal Land Policy and Management Act of 1976, as amended.

DATES: The draft EA will be available on August 15, 2025. A public hearing will be held on Friday, August 15, 2025, from 3 p.m. until 6 p.m. Mountain Time (MT).

ADDRESSES: The public hearing will be held at the Sheridan County Courthouse, Room #210, second floor, 224 S. Main Street, Sheridan, WY 82801. Any updates to the public hearing will be provided through the ePlanning project website and a press release.

The draft EA and documents pertinent to this proposal are available on the BLM ePlanning project website at https://eplanning.blm.gov/eplanning-ui/project/2039569/510.

FOR FURTHER INFORMATION CONTACT: Tessa Wallace, BLM Montana/Dakotas State Office, Solid Minerals, 5001 Southgate Dr., Billings, MT 59101; telephone: 406-896-5086; email: tlwallace@blm.gov.

Individuals in the United States who are deaf, deafblind, hard of hearing, or have a speech disability may dial 711 (TTY, TDD, or TeleBraille) to access telecommunications relay services for contacting Ms. Wallace. Individuals outside the United States should use the relay services offered within their country to make international calls to the point-of-contact in the United States.

SUPPLEMENTARY INFORMATION: The purpose and need for the BLM's Federal action is to respond to Navajo Transitional Energy Company's LMA and LBA to lease Federal coal resources at the Spring Creek Mine in Montana. The Federal tracts associated with the LBA and LMA contain approximately 177 million tons of minable coal over approximately 1,412 acres which could be mined through 2034. The purpose of OSMRE's Federal action is to conduct an analysis of the potential environmental effects of the proposed mining plan for the proposed MTM 1105485-01 lease. OSMRE will use this analysis to inform its recommendation to the Assistant Secretary for Land and Minerals Management, who may approve, disapprove, or approve with conditions the proposed Federal mining plan. Three alternatives are analyzed in the draft EA.

Comments on the FMV and MER received from the public will be considered and incorporated as appropriate into the final written report.

The tracts for the proposed MTM 110693 lease modification and MTM 105485-01 lease underlie Federal and private surface and are described as follows:

Principal Meridian, Montana

Principal Meridian, Montana

T. 8 S., R. 39 E.,

Sec. 13, W½SW¼NE¼, SE¼SW¼NE¼, S½NE¼NW¼, N½NW¼NW¼, SE¼NW¼NW¼, N½SE¼NW¼, SE¼SE¼NW¼, W½NE¼SE¼, and NE¼NW¼SE¼;

Sec. 14, NE¼NE¼NE¼;

Sec. 35, E½.

T. 9 S., R. 39 E.,

Sec. 1, lots 1 thru 4, W½NE¼, NW¼, E½NW¼SE¼, and E½SW¼SE¼;

Sec. 2, NE¼.

T. 9 S., R. 40 E.,

Sec. 6, lots 5 thru 7, S½SE¼NW¼, E½SW¼, S½NE¼SE¼, NW¼NW¼SE¼, S½NW¼SE¼, and S½SE¼.

The areas described aggregate 1,412.57 acres, according to the surveys of the said land, on file with the BLM.

Through this notice, the BLM is inviting the public to provide comments regarding any factors that may affect the determinations of the FMV and MER.

Any proprietary information or data that you submit to the BLM must be marked as confidential and mailed directly to the BLM Montana-Dakotas State Office, Attention: Tessa Wallace (see FOR FURTHER INFORMATION CONTACT) to assure the data will be treated in accordance with the applicable laws and regulations governing the confidentiality of such information or data. A copy of the comments submitted by the public on the FMV and MER for the tracts, except those portions identified as proprietary and that meet one of the exemptions in the Freedom of Information Act, will be available for public inspection at the BLM Montana/Dakotas State Office (see FOR FURTHER INFORMATION CONTACT), during regular business hours (8 a.m. to 4:30 p.m. MT), Monday through Friday, except Federal holidays.

Before including your address, phone number, email address, or other personal identifying information in your comment, you should be aware that your entire comment—including your personal identifying information—may be made publicly available at any time. While you can ask us in your comment to withhold your personal identifying information from public review, the BLM cannot guarantee that we will be able to do so.

(Authority: 43 CFR 3425.3 and 3425.4)

Joshua F. Alexander,
Deputy State Director, BLM Montana/Dakotas.

[FR Doc. 2025-15515 Filed 8-13-25; 12:15 pm]

BILLING CODE 4331-20-P